DEPARTMENT OF THE INTERIOR

Fish and Wildlife Service

50 CFR Part 80

[Docket No. FWS-HQ-OCI-2025-0080; FVWF51100900000-XXX-FF09W11000; FVWF94100900000-XXX-FF09W11000]

RIN 1018-BI83

Implementation of the Pittman-Robertson Wildlife Restoration and Dingell-Johnson Sport Fish Restoration Acts

AGENCY: Fish and Wildlife Service, Interior.

ACTION: Direct final rule; request for comments.

SUMMARY: This direct final rule (DFR) rescinds portions of the U.S. Fish and Wildlife Service's (Service) regulations containing general provisions related to requirements for programs and subprograms authorized under the Pittman-Robertson Wildlife Restoration Act and the Dingell-Johnson Sport Fish Restoration Act. This DFR removes redundancies and eliminates superfluous sections. These recissions will result in regulations that better serve the American public, streamline government operations, and increase efficiencies for recipients of our financial assistance programs.

DATES: This final rule is effective on March 16, 2026, without further action, unless significant adverse comments are received by February 17, 2026. If significant adverse comments are received, we will publish a notification in the Federal Register before the effective date either withdrawing the rule or issuing a new final rule that responds to any significant adverse comments.

ADDRESSES: You may submit comments by one of the following methods:

Electronically: Go to the Federal eRulemaking Portal: https://www.regulations.gov. In the Search box, enter FWS-HQ-OCI-2025-0080, which is the docket number for this rulemaking. Then, click the Search button. In the Search panel on the left side of the screen, under the Document Type heading, click on the box next to Rule to locate this document. You may submit a comment by clicking on “Comment.”

By hard copy: Submit by U.S. mail or hand-delivery to: Public Comments Processing, Attn: FWS-HQ-OCI-2025-0080, U.S. Fish and Wildlife Service, MS: PRB (JAO/3W); 5275 Leesburg Pike, Falls Church, VA 22041-3803.

FOR FURTHER INFORMATION CONTACT: Diana Swan-Pinion, Office of Conservation Investment, U.S. Fish and Wildlife Service, email: diana_swan-pinion@fws.gov, telephone: 404-821-6844. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Department of the Interior's (Department) regulations governing the annual apportionments to fish and wildlife agencies of States, U.S. Territories, and the District of Columbia authorized under the Pittman-Robertson Wildlife Restoration Act (Wildlife Restoration Act, 50 Stat. 917, as amended; 16 U.S.C. 669 et seq.) and the Dingell-Johnson Sport Fish Restoration Act (Sport Fish Restoration Act, 64 Stat. 430, as amended; 16 U.S.C. 777-777m, except 777e-1 and g-1) (Acts) are contained in 50 CFR part 80. The Service regularly reviews its regulations implementing the Acts to ensure they are both efficient and effective. The Service has determined that certain regulations in 50 CFR part 80 are duplicative or redundant of the Acts or other regulations or are more appropriately located in the annual notice of funding opportunities (NOFO) which includes the information that is necessary for the effective communication of the program objectives.

Accordingly, the Department will remove §§ 80.10(a-c), 80.11, and 80.12 because they restate language that is found in the Acts. We further revise § 80.10 to only include language that is unique to the regulation.

We also remove §§ 80.66, 80.121, and 80.123 because these sections restate regulations that are found in 2 CFR part 200, the regulations for Federal financial assistance for all Federal agencies.

Finally, we will remove §§ 80.80 and 80.90 as they restate or explain language that is found in the annual NOFO for these grant programs.

The Department has determined that these reasons, independently and alone, justify revision of 50 CFR part 80. The Department has no interest in maintaining regulations that are obsolete or unclear.

The Department is issuing this rule as a direct final rule. Although the Administrative Procedure Act (APA; 5 U.S.C. 551-559) generally requires agencies to engage in notice and comment rulemaking, section 553 of the APA provides an exception when the agency “for good cause finds” that notice and comment are “impracticable, unnecessary, or contrary to the public interest.” The Department has determined that notice and comment are unnecessary because this rule is noncontroversial; of a minor, technical nature; involves little agency discretion; and is unlikely to receive any significant adverse comments. Significant adverse comments are those that oppose the revision of the rule and raise, alone or in combination, (1) reasons why the revision of the rule is inappropriate, including challenges to the revision's underlying premise; or (2) serious unintended consequences of the revision. A comment recommending an addition to the rule will not be considered significant and adverse unless the comment explains how this direct final rule would be ineffective without the addition.

Required Determinations

Executive Order (E.O.) 12866—Regulatory Planning and Review, E.O. 13563—Improving Regulation and Regulatory Review, and E.O. 14192—Unleashing Prosperity Through Deregulation

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements. This DFR is an E.O. 14192 deregulatory action.

Regulatory Flexibility Act

The Regulatory Flexibility Act (RFA; 5 U.S.C. 601-612) requires an agency to prepare a regulatory flexibility analysis for all rules unless the agency certifies that the rule will not have a significant economic impact on a substantial number of small entities. The RFA applies only to rules for which an agency is required to first publish a proposed rule. As the Department is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act (2 U.S.C. 1531 et seq.)

This rule does not impose an unfunded mandate on State, local, or Tribal governments, or the private sector, of more than $100 million per year. The rule does not have a significant or unique effect on State, local, or Tribal governments, or the private sector. The rule merely revises the Federal regulations to remove an obsolete provision that is no longer used. Therefore, a statement containing the information required by the Unfunded Mandates Reform Act (2 U.S.C. 1531 et seq.) is not required.

Takings (E.O. 12630)

This rule does not result in a taking of private property or otherwise have regulatory takings implications under E.O. 12630. The rule rescinds an obsolete regulatory provision; therefore, the rule will not result in private property being taken for public use without just compensation. A takings implication assessment is therefore not required.

Federalism (E.O. 13132)

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

Civil Justice Reform (E.O. 12988)

In accordance with E.O. 12988, the Office of the Solicitor has determined that this rule will not unduly burden the judicial system and meets the requirements of sections 3(a) and 3(b)(2) of E.O. 12988.

Government-to-Government Relationship With Tribes

In accordance with the President's memorandum of April 29, 1994, “Government-to-Government Relations with Native American Tribal Governments” (59 FR 22951), E.O. 13175, and 512 DM 2, we have evaluated potential effects on federally recognized Indian Tribes and have determined that this rule would not interfere with Tribes' abilities to manage themselves, their funds, or Tribal lands.

Paperwork Reduction Act (44 U.S.C. 3501 et seq.)

This proposed rule does not contain any new collection of information that requires approval by the OMB under the Paperwork Reduction Act of 1995 (44 U.S.C. 3501 et seq.). An agency may not conduct or sponsor, and a person is not required to respond to, a collection of information unless it displays a currently valid OMB control number. OMB has approved the information collection requirements associated with the Service's grants and financial assistance activities and assigned OMB Control No. 1018-0100 (exp. 06/30/2028).

National Environmental Policy Act (42 U.S.C. 4321 et seq.)

This direct final rule does not constitute a major Federal action significantly affecting the quality of the human environment. A detailed statement under the National Environmental Policy Act (NEPA; 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

Energy Supply, Distribution or Use (E.O. 13211)

This direct final rule is not a significant energy action as defined in E.O. 13211. Therefore, a statement of energy effects is not required.

List of Subjects in 50 CFR 80

Fish, Fishing, Grant programs—natural resources, Grant programs—recreation, Grants administration, Hunting, Licensing and Registration, Natural resources, Rates and fares, Real property acquisition, Recreation and recreation areas, Reporting and recordkeeping requirements, Signs and symbols, Wildlife.

Regulation Promulgation

For the reasons stated in the preamble, we amend part 80, subchapter F of chapter I, title 50 of the Code of Federal Regulations, as set forth below:

PART 80—ADMINISTRATIVE REQUIREMENTS, PITTMAN-ROBERTSON WILDLIFE RESTORATION AND DINGELL-JOHNSON SPORT FISH RESTORATION ACTS

1. The authority citation for part 80 continues to read as follows:

Authority: 16 U.S.C. 669-669k and 777-777n, except 777e-1 and g-1.

2. Revise § 80.10 to read as follows:

§ 80.10 Who is eligible to receive the benefits of the Acts?

States acting through their fish and wildlife agencies are eligible for benefits of the Acts only if they pass and maintain legislation as described in the Acts and maintain control of revenue from hunting and fishing licenses. This revenue is to be used for administration of the State fish and wildlife agency, which includes the functions required to manage the agency and the fish- and wildlife-related resources for which the agency has authority under State law. A State becomes ineligible to receive the benefits of the Acts if they fail materially to comply with any law, regulation, or term of a grant as it relates to acceptance and use of funds under the Acts.

§ § 80.11 and 80.12 [Removed and Reserved]

3. Remove and reserve §§ 80.11 and 80.12.

Subpart F—Allocation of Funds by an Agency

§ 80.66 [Removed and Reserved]

4. Remove and reserve § 80.66.

Subpart G—Application for a Grant

§ 80.80 [Removed and Reserved]

5. Remove and reserve § 80.80.

Subpart H—General Grant Administration

§ 80.90 [Removed and Reserved]

6. Remove and reserve § 80.90.

Subpart I—Program Income

§ § 80.121 and 80.123 [Removed and Reserved]

7. Remove and reserve §§ 80.121 and 80.123.

Kevin Lilly,
Principal Deputy Assistant Secretary for Fish and Wildlife and Parks, Exercising the Delegated Authority of the Assistant Secretary for Fish and Wildlife and Parks.

[FR Doc. 2026-00675 Filed 1-14-26; 8:45 am]

BILLING CODE 4333-15-P